DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research for the benefit of the public health.

FOR FURTHER INFORMATION CONTACT: Licensing information may be obtained by emailing the licensing contact Malabika Ghosh, J.D., Ph.D.; 301-827-5414; Malabika.Ghosh@nih.gov, at the National Heart, Lung, and Blood, Office of Technology Transfer and Development, 31 Center Drive Room 4A25, MSC2479, Bethesda, MD 20892-2479. A signed Confidential Disclosure Agreement may be required to receive any unpublished information.

SUPPLEMENTARY INFORMATION: Technology description follows.

Analogues of N-Lactoyl-Phenylalanine, Methods of Synthesis, and Methods of Use

Available for licensing and commercial development are patent rights covering N-Lactoyl-Phenylalanine (Lac-Phe) analogues having appetite suppressant activity, which may be useful as therapeutics in the treatment of obesity and related secondary diseases. The patent rights also cover methods of synthesis of the N-Lactoyl-Phenylalanine (Lac-Phe) analogues are also disclosed, as well as methods of use and treatment of obesity and related secondary diseases with the Lac-Phe analogues.

This technology is available for licensing for commercial development in accordance with 35 U.S.C. 209 and 37 CFR part 404, as well as for further development and evaluation under a research collaboration.

Inventors

• Alan T. Remaley, M.D., Ph.D. NHLBI

• Anna Wolska, Ph.D. NHLBI

• Amaury Lucien-Philip Dasseux

Potential Commercial Applications

• Therapeutics

○ obesity

○ obesity co-morbidities

Development Stage

• Preclinical (data from compound optimization and in vivo validation)

Intellectual Property

• NIH Reference No. E-160-2023-0, U.S. Provisional Patent Application 63/585,791 filed September 27, 2023, International Patent Application PCT/US2024/048617 filed September 26, 2024, entitled “N-Lactoyl-Phenylalanine (Lac-Phe) compound derivatives.”

Dated: November 27, 2024.
Malabika J. Ghosh,
Technology Transfer and Patent Specialist, National Heart, Lung, and Blood Institute, Office of Technology Transfer and Development.

[FR Doc. 2024-28329 Filed 12-2-24; 8:45 am]

BILLING CODE 4140-01-P